FEDERAL MARITIME COMMISSION

Ocean Transportation Intermediary License; Applicants

Notice is hereby given that the following applicants have filed with the Federal Maritime Commission an application for a license as a Non-Vessel-Operating Common Carrier (NVO) and/or Ocean Freight Forwarder (OFF)—Ocean Transportation Intermediary (OTI) pursuant to section 19 of the Shipping Act of 1984 as amended (46 U.S.C. Chapter 409 and 46 CFR part 515). Notice is also hereby given of the filing of applications to amend an existing OTI license or the Qualifying Individual (QI) for a license.

Interested persons may contact the Office of Transportation Intermediaries, Federal Maritime Commission, Washington, DC 20573, by telephone at (202) 523-5843, or by e-mail at OTI@fmc.gov.

Allto Business International Inc. (NVO & OFF), 8349 NW 68th Street, Miami, FL 33166. Officers: Sergio Bobadilla, President/Director/Secretary, (Qualifying Individual), Rangel Lopez, Vice President/Treasurer, Application Type: New NVO & OFF License.

Arabian Global Logistics Inc. dba Arabian Cargo International (OFF), 801 Dumont Street, #C, South Houston, TX 77578. Officers: Fakher M. Nawar, President/Director, (Qualifying Individual), Karim F. Nawar, Treasurer/Secretary, Application Type: New OFF License.

ASC Miami, Corp. (NVO & OFF), 10775 NW 21st Street, #110, Miami, FL 33172. Officers: Maria D. Torres, President, (Qualifying Individual), Jose D. Salazar, Secretary, Application Type: Add NVO Service.

AV Logistics, L.L.C. (NVO & OFF), 350 Corporate Way, #250, Orange Park, FL 32073. Officers: Michael Bifulco, Vice President Operations, (Qualifying Individual), Michael Burton, President/Manager, Application Type: New NVO & OFF License.

BBC Freight Line Inc. dba ABC Depot Logistics (NVO), 7400 E. Slauson Avenue, Commerce, CA 90040. Officer: Douglas E. Garcia, Secretary, (Qualifying Individual), Fred Chen, President, Application Type: Trade Name Change.

Crowley Caribbean Logistics, LLC (NVO & OFF), Rd. 165, KM 2.4, Edif 13, Guaynabo, PR 00970. Officers: John G. Smith, OTI Compliance Officer/Manager, (Qualifying Individual), John P. Hourihan, Senior Vice President/Manager, Application Type: New NVO & OFF License.

D & J Cargo, Inc. (NVO & OFF), 1933 NW 21st Terrace, Miami, FL 33142. Officers: Oscar D. Matus, Operations Officer, (Qualifying Individual), Dennis A. Campos, President, Application Type: New NVO & OFF License.

F.H.L. Logistics, Inc. (NVO & OFF), 1354 NW 78th Avenue, Doral, FL 33126. Officers: Laura Leal-Ramos, Vice President, (Qualifying Individual), Jose L. Tabares, President, Application Type: New NVO & OFF License.

FPS Logistic (USA) Inc. (NVO), 879 W. 190th Street, #905, Gardena, CA 90248. Officers: Anna W. Liu, Vice President (Operations), (Qualifying Individual), Quincy H. Tan, President/CEO/CFO/Secretary, Application Type: Trade Name Change.

HYC Logistics, Inc. (NVO & OFF), 2600 Thousand Oaks Blvd., Suite 1350, Memphis, TN 38118. Officers: Tanya M. DePriest, Vice President Export Operations, (Qualifying Individual), Uri D. Silver, President, Application Type: QI Change.

ICT International Cargo Transport (USA) Inc. (NVO & OFF), 28922 Lorain Road, #100, North Olmsted, OH 44070. Officers: Suzanne M. Javorsky, Vice President, (Qualifying Individual), Janko Wille, President, Application Type: QI Change.

Latin American Exporters, Inc. dba Cargomax Worldwide Logistics (NVO), 1850 NW 84th Avenue, #100, Doral, FL 33126. Officers: Yessenia M. Litardo, Vice President, (Qualifying Individual), Felix F. Ferrer, President/Secretary, Application Type: New NVO License.

Leschaco, Inc. (NVO & OFF), One Evertrust Plaza, Suite 304, Jersey City, NJ 07302. Officers: Mark C. Malambri, President/CEO, (Qualifying Individual), Martin Pieper, Treasurer, Application Type: QI Change.

Midwest International Shipping, Inc. (OFF), 2540 Bradley Place, Chicago, IL 60618. Officers: Shlomo Rimer, Vice President/Treasurer, (Qualifying Individual), Ariel Hershkovich, President/Secretary, Application Type: New OFF License.

MSC Expeditor Inc. (NVO & OFF), 167-21 Porter Road, Suite #202, Jamaica, NJ 11434. Officer: Chang, Yu Chu, President/Secretary, (Qualifying Individual), Application Type: New NVO & OFF License.

North Star Container, LLC dba NS World Logistics (NVO), 7400 Metro Boulevard, Suite 300, Edina, MN 55439. Officers: Shawn D. Steen, Assistant Vice President, (Qualifying Individual), Application Type: Trade Name Change.

Omega Relocations Inc (NVO), 2741 W. 76th Street, Hialeah, FL 33016. Officers: Eyal Aviani, Vice President, (Qualifying Individual), Horacio G. Lacayo, President/Secretary, Application Type: New NVO License.

P2 Logistics, Inc (NVO & OFF), 17326 Edwards Road, #205, Cerritos, CA 90703. Officers: Michael Park, CEO, (Qualifying Individual), Phillip Choi, CFO, Application Type: New NVO & OFF License.

Port Alliance Logistics International, Inc. dba Port Alliance Logistics (Los Angeles) dba Port Alliance Logistics (New York) (NVO & OFF), 400 Garden City Plaza, Suite 309, Garden City, NY 11530. Officers: Shawn Mak, Treasurer, (Qualifying Individual), Huang-Yu Lin, President, Application Type: Add OFF Service.

Shinewell Logistics, Inc dba Shinyei Shipping (NVO), 1861 Western Way, Torrance, CA 90501. Officers: Hseanrus (Stephen) H. Lin, President/Vice President, (Qualifying Individual), Application Type: Trade Name Change.

Stella Maris International Trading, Inc. (NVO), 3825 Henderson Boulevard, Suite 100, Tampa, FL 33629. Officers: Fernando Perez, Vice President/Secretary, (Qualifying Individual), Nadya Ojeda-Perez, President/Treasurer, Application Type: New NVO License.

Toshiba Logistics America, Inc. (NVO & OFF), 9740 Irvine Blvd., Irvine, CA 92618. Officers: Katsuhiro Kume, Assistant Secretary, (Qualifying Individual), Takumi Murai, CEO/President, Application Type: QI Change.

Total Caribbean Logistics, LLC (NVO & OFF), 81 Kings Court, #14B, San Juan, PR 00911. Officers: Kurt W. Terhar, Sole Member, (Qualifying Individual), Application Type: New NVO & OFF License.

We International Inc (NVO & OFF), 6690 Amador Plaza Drive, #115, Dublin, CA 94568. Officers: Paul A. Slemmons, Vice President, (Qualifying Individual), Mingli Wu, Stockholder, Application Type: New NVO & OFF License.

Trans-Aero-Mar, Inc. (NVO & OFF), 8620 N.W. 70th Street, Miami, FL 33166. Officer: Luis G. Rangel, President, (Qualifying Individual), Application Type: Add OFF Service.

Widelane Global Logistics Ltd. (NVO), One Cross Island Plaza, 133-33 Brookville Blvd., Suite 108, Rosedale, NY 11422. Officer: William Poung, Pres/CFO/Sec/CEO/VP/Senior VP, (Qualifying Individual), Application Type: Name Change.

Wiz Freight Corp. (NVO), 8327 NW 68th Street, Miami, FL 33166. Officer: Renato F. Ferretti, President/Secretary/Treasurer, (Qualifying Individual), Application Type: New NVO License.

Xperts Logistics Inc. (NVO), 3407-B NW 72nd Avenue, Miami, FL 33122. Officers: Jerry Y. Lopez-Leon, President/Secretary/CEO, (Qualifying Individual), Application Type: New NVO License.

Dated: June 27, 2011.
Karen V. Gregory,
Secretary.

[FR Doc. 2011-16546 Filed 6-30-11; 8:45 am]

BILLING CODE 6730-01-P